DEPARTMENT OF COMMERCE

National Oceanic and Atmospheric Administration

RIN 0648-XX001

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the University of Connecticut contains all of the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before June 17, 2019.

ADDRESSES: You may submit written comments by any of the following methods:

• Email: NMFS.GAR.EFP@noaa.gov. Include in the subject line “Comments on UConn Lobster Study.”

• Mail: Michael Pentony, Regional Administrator, NMFS, Greater Atlantic Regional Fisheries Office, 55 Great Republic Drive, Gloucester, MA 01930. Mark the outside of the envelope “Comments on UConn Lobster Study.”

FOR FURTHER INFORMATION CONTACT: Laura Hansen, Fishery Management Specialist, 978-281-9225, Laura.Hansen@noaa.gov.

SUPPLEMENTARY INFORMATION: This project would collect egg bearing female lobsters to examine the impact of endocrine disrupting chemicals on lobster larva development. The University of Connecticut submitted a complete EFP application on May 1, 2019.

If the EFP is approved, this study would take place from May to September 2019. The EFP would authorize participating vessels to collect up to 18 female egg-bearing lobsters from Lobster Conservation Management Areas 2 and 3. The lobsters collected for this study would range in weight from 1.5-4.5 lb (0.68-2.41 kg). Fishermen would ship the lobsters overnight to a researcher at the Marine Biological Laboratory in Woods Hole, MA. The researcher would transfer the lobsters to a holding tank to conduct further analysis of blood samples for the presence of endocrine disruptors and monitor larval development. The researcher will return surviving lobsters to the ocean following the experiments.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 24, 2019.
Jennifer M. Wallace,
Acting Director, Office of Sustainable Fisheries, National Marine Fisheries Service.

[FR Doc. 2019-11321 Filed 5-30-19; 8:45 am]

BILLING CODE 3510-22-P